DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 75 FR 70276-70277, dated November 17, 2010) is amended to reflect the title change for the Office of Science Quality and Translation, Office of the Associate Director for Science, Office of the Director, Centers for Disease Control and Prevention.

Section C-B, Organization and Functions, is hereby amended as follows:

Delete in its entirety the title for the Office of Science Quality and Translation (CASH) and insert the Office of Science Quality (CASH).

Dated: December 29, 2010.
Barbara Harris,
Acting Chief Operating Officer, Centers for Disease Control and Prevention (CDC).

[FR Doc. 2011-55 Filed 1-6-11; 8:45 am]

BILLING CODE 4160-18-M